DEPARTMENT OF THE INTERIOR

National Park Service

National Register of Historic Places; Notification of Pending Nominations and Related Actions

Nominations for the following properties being considered for listing or related actions in the National Register were received by the National Park Service before April 30, 2006.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 25, 2006.

John W. Roberts,
Acting Chief, National Register/National Historic Landmarks Program.

ALASKA

Juneau Borough-Census Area

Juneau Memorial Library, 114 W. Fourth St., Juneau, 06000463

ARIZONA

Maricopa County

Earll Place Historic District, 1620-1722 E. Pinchot Ave., 1617-1731 and 1736 E. Earll Dr., Phoenix, 06000468

ARKANSAS

Jefferson County

Cogburn Dipping Vat, (Dip That Tick: Texas Tick Fever Eradication in Arkansas MPS) W. of Forest Service Rd. 73, E. of Montgomery County Rd 1 S. of its jct. with AR 8, Black Spring, 06000467

Montgomery County

Guinn Dipping Vat, (Dip That Tick: Texas Tick Fever Eradication in Arkansas MPS) S. of Forest Service Rd. 37 W. of US 70, Mauldin, 06000465

Scott County

Dooley Dipping Vat, (Dip That Tick: Texas Tick Fever Eradication in Arkansas MPS) Off Dooley Rd. E. of Forest Service Rd. 925, Boles, 06000466

Square Rock Dipping Vat, (Dip That Tick: Texas Tick Fever Eradication in Arkansas MPS) NW. of jct. of Forest Service Rds. 296 and 565A, Waldron, 06000464

KANSAS

Atchison County

Lincoln School, (Public Schools of Kansas MPS) 801 Division St., Atchison, 06000469

Ramsay, Ronald and Dorcas, House, 1415 Riverview Dr., Atchison, 06000470

Phillips County

Kirwin City Hall, 1st and Main Sts., Kirwin, 06000471

MISSOURI

Pike County

Louisiana Chicago & Alton Railroad Depot, 801 S. Third St., Louisiana, 06000472

Scott County

Anderson, Charles Isaac and Lizzie Hunter Moore, House, 203 Washington St., Commerce, 06000473

NEW YORK

Kings County

East Midwood Jewish Center, 1625 Ocean Ave., Brooklyn, 06000478

Immanuel Congregational Church, 461 Decatur St., Brooklyn, 06000479

Van Nuyse, Joose, House, 1128 E. 34th St., Brooklyn, 06000477

New York County

Building at 254-260 Canal Street, 254-260 Canal St., New York, 06000475

Lee, Higginson & Company Bank Building, 41 Broad St., New York, 06000476

NORTH DAKOTA

Ward County

South Prairie Community Hall, 177th Ave., SW., Minot, 06000474

OHIO

Clark County

St. John's Evangelical Lutheran Church, 27 N. Wittenberg Ave., Springfield, 06000485

Hamilton County

Sunny Knolls—Pape, Gordon E., House, 8725 Blome Rd., Indian Hill, 06000484

Mahoning County

Newport Village Allotment Historic District, Parts of Market St., Chester Dr., Jennette Dr. and Overhill Rd., Boardman, 06000483

Medina County

Spring Grove Cemetery, Spring Grove St., Medina, 06000482

Montgomery County

Fox Hollow, 6320 Mad River Rd., Washington Township, 06000481

Unit III, Dayton Project, 1601 W. First St., Dayton, 06000480

OKLAHOMA

Kingfisher County

Kingfisher Memorial Hall, 123 W. Miles Ave., Kingfisher, 06000487

Pittsburg County

L'Ouverture Gymnasium, Jct. of S. 14th St. and E. Chickasaw Ave., McAlester, 06000486

VERMONT

Addison County

Bridge 26, Town Hwy 11, Morgan Horse Farm Rd., over the Otter Cr., Weybridge, 06000488

[FR Doc. 06-4365 Filed 5-9-06; 8:45 am]

BILLING CODE 4312-51-P